FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than September 15, 2025.

A. Federal Reserve Bank of Kansas City (Jeffrey Imgarten, Assistant Vice President) 1 Memorial Drive, Kansas City, Missouri 64198-0001. Comments can also be sent electronically to KCApplicationComments@kc.frb.org:

1. Leonard R. Wolfe, Frankfort, Kansas, individually, and as a trust committee member of UBT Bancshares, Inc., ESOP, Marysville, Kansas; the Leonard R. Wolfe Trust, Leonard R. Wolfe and Beth A. Wolfe, individually, and as co-trustees, and the Beth A. Wolfe Trust, Beth A. Wolfe and Leonard R. Wolfe, individually, and as co-trustees, all of Frankfort, Kansas; the Dellamano Family Trust, Anthony Dellamano and Jenna Wolfe, individually, and as co-trustees, all of Solana Beach, California; Joseph T. Massey and Peggy Massey, both of Cedar Vale, Kansas; Kellie Lamasters, Kansas City, Missouri; Randall Lamasters and Lana Lamasters, both of Chanute, Kansas; Nicholas Wolfe, Rylee Wolfe, and Sherri L. Edmundson, all of Marysville, Kansas; Ryan C. Edmundson, Marion, Kansas; Mackenzie M. Cyr, Clyde, Kansas; and Vivian S. Shaw, Sedan, Kansas; to become members of the Wolfe Family Group, a group acting in concert, to retain voting shares of UBT Bancshares, Inc., and thereby indirectly retain voting shares of United Bank and Trust.

B. Federal Reserve Bank of Dallas (Lindsey Wieck, Director, Mergers & Acquisitions) 2200 North Pearl Street, Dallas, Texas 75201-2272. Comments can also be sent electronically to Comments.applications@dal.frb.org:

1. Todd R. Staats, Albuquerque, New Mexico; and Shawna L. Pooley, Martindale, Texas; to retain voting shares of Marion Bancshares, Inc., and thereby indirectly retain voting shares of Marion State Bank, both of Marion, Texas.

Board of Governors of the Federal Reserve System.
Michele Taylor Fennell,
Associate Secretary of the Board.

[FR Doc. 2025-16662 Filed 8-28-25; 8:45 am]

BILLING CODE P